ENVIRONMENTAL PROTECTION AGENCY

40 CFR Part 770

[EPA-HQ-OPPT-2012-0018; FRL-9394-1]

RIN 2070-AJ92

Formaldehyde Emissions Standards for Composite Wood Products; Extension of Comment Period

AGENCY: Environmental Protection Agency (EPA).

ACTION: Proposed rule; extension of comment period.

SUMMARY: EPA issued a proposed rule in the Federal Register of June 10, 2013, concerning formaldehyde emissions standards for composite wood products. This document extends the comment period from August 9, 2013, to September 9, 2013. After receiving requests for an extension, EPA believes it is appropriate to extend the comment period in order to give stakeholders additional time to assess the impacts of the proposal, review technical documents in the docket, and prepare comments.

DATES: The EPA is extending the comment date on a proposed rule published June 10, 2013 at 78 FR 34820. Comments, identified by docket identification (ID) number EPA-HQ-OPPT-2012-0018, must be received on or before September 9, 2013.

ADDRESSES: Follow the detailed instructions as provided under ADDRESSES in the Federal Register document of June 10, 2013.

FOR FURTHER INFORMATION CONTACT: For technical information contact: Cindy Wheeler, National Program Chemicals Division, Office of Pollution Prevention and Toxics, Environmental Protection Agency, 1200 Pennsylvania Ave. NW., Washington, DC 20460-0001; telephone number: (202) 566-0484; email address: wheeler.cindy@epa.gov.

For general information contact: The TSCA-Hotline, ABVI-Goodwill, 422 South Clinton Ave., Rochester, NY 14620; telephone number: (202) 554-1404; email address: TSCA-Hotline@epa.gov.

SUPPLEMENTARY INFORMATION: This document extends the public comment period established in the Federal Register of June 10, 2013 (78 FR 34820) (FRL-9342-3). EPA is hereby extending the comment period, which was set to end on August 9, 2013, to September 9, 2013.

To submit comments, or access the docket, please follow the detailed instructions as provided under ADDRESSES in the June 10, 2013, Federal Register document. If you have questions, consult the technical contact person listed under FOR FURTHER INFORMATION CONTACT.

List of Subjects in 40 CFR Part 770

Environmental protection, Formaldehyde, Reporting and recordkeeping requirements, Toxic substances, Wood.

Dated: July 17, 2013.
James Jones,
Acting Assistant Administrator, Office of Chemical Safety and Pollution Prevention.

[FR Doc. 2013-17673 Filed 7-22-13; 8:45 am]

BILLING CODE 6560-50-P